DEPARTMENT OF DEFENSE

Department of the Navy

32 CFR Part 701

[Docket ID: USN-2018-HQ-0012]

RIN 0703-AB02

Indexing, Public Inspection, and Federal Register Publication of Department of Navy Directives and Other Documents Affecting the Public

AGENCY: Department of the Navy, Department of Defense.

ACTION: Final rule.

SUMMARY: This final rule amends the CFR by removing a subpart that delineates internal responsibilities regarding indexing, public inspection, and Federal Register publication of Department of the Navy (DON) directives and other documents affecting the public. It has been determined that this subpart is no longer required, as the procedures outlined in it are internal to the DON.

DATES: This rule is effective on December 3, 2018.

FOR FURTHER INFORMATION CONTACT: Helena Gilbert at 703-693-9932.

SUPPLEMENTARY INFORMATION: It has been determined that publication of this rule in the Federal Register for public comment is impracticable, unnecessary, and contrary to public interest since it is based on removing policies and procedures that are solely internal to the DON. Specifically, the subpart this rule is removing prescribes internal instructions for making available for public inspection, and copying, certain classes of documents; maintaining current indexes of documents, and publishing such indexes or making them available by other means; receiving and considering petitions of members of the public for the issuance, revision, or cancellation of documents of some classes; and, distributing the Federal Register for official use within the DON. These internal procedures will continue to be available at https://doni.documentservices.dla.mil/Directives/05000%20General%20Management%20Security%20and%20Safety%20Services/05-700%20General%20External%20and%20Internal%20Relations%20Services/5720.45C.pdf.

This rule is not significant under Executive Order (E.O.) 12866, “Regulatory Planning and Review,” therefor, E.O. 13771, “Reducing Regulation and Controlling Regulatory Costs” does not apply.

List of Subjects in 32 CFR Part 701

Administrative practice and procedure, Freedom of Information, Privacy.

Accordingly, 32 CFR part 701 is amended as follows:

PART 701—AVAILABILITY OF DEPARTMENT OF THE NAVY RECORDS AND PUBLICATION OF DEPARTMENT OF THE NAVY DOCUMENTS AFFECTING THE PUBLIC

1. The authority citation for part 701 continues to read as follows:

Authority: 5 U.S.C. 552.

Subpart E—[Removed and Reserved]

2. Subpart E, consisting of §§ 701.61 through 701.67, is removed and reserved.

M.S. Werner,
Commander, Judge Advocate General's Corps, U.S. Navy, Federal Register Liaison Officer.

[FR Doc. 2018-26134 Filed 11-30-18; 8:45 am]

BILLING CODE 3810-FF-P